DEPARTMENT OF ENERGY

Environmental Management Site-Specific Advisory Board, Savannah River

AGENCY: Department of Energy.

ACTION: Notice of open meeting.

SUMMARY: This notice announces a meeting of the Environmental Management Site-Specific Advisory Board (EM SSAB), Savannah River. Federal Advisory Committee Act (Pub. L. No. 92-463, 86 Stat. 770) requires that public notice of these meetings be announced in the Federal Register.

DATES: Monday, September 25, 2000: 3:30 p.m-9:00 p.m.; Tuesday, September 26, 2000—8:30 a.m.-4:00 p.m.

ADDRESS: The meeting on Monday will be held at: The First Baptist Church, 1803 Allen Street, Barnwell, SC 29812

The meeting on Tuesday will be held at: Barnwell State Park, Route 2, Blackville, SC 29812.

FOR FURTHER INFORMATION CONTACT: Tom Treger, Office of Environmental Quality, Department of Energy, Savannah River Operations Office, P.O. Box A, Aiken, SC 29802, Phone (803) 725-1958, e-mail: thomas.treger@srs.gov.

SUPPLEMENTARY INFORMATION: Purpose of the Board: The purpose of the Board is to make recommendations to DOE and its regulators in the areas of environmental restoration, waste management and related activities.

Tentative Agenda:

Monday, September 25, 2000:

3:30 p.m. Executive Committee Meeting

6:30 p.m. Public Comment Session

7:00 p.m. Committee Meetings

9:00 p.m. Adjourn

Tuesday, September 26, 2000:

8:30 a.m.

Approval of Minutes, Agency Updates

Public Comment Session

Facilitator Update

SRS Annual Report

Waste Management Committee Report

Public Comments

12:00 p.m. Lunch Break

1:00 p.m.

Environmental Remediation Committee

Strategic and Long-Term Issues

Nuclear Materials Committee Report

Administrative Committee Report

Public Comments

4:00 p.m. Adjourn

If needed, time will be allotted after public comments for items added to the agenda, and administrative details. A final agenda will be available at the meeting on Monday.

Public Participation: The meeting is open to the public. Written statements may be filed with the Committee either before or after the meeting. Individuals who wish to make oral statements pertaining to agenda items should contact Tom Treger's office at the address or telephone number listed above. Requests must be received 5 days prior to the meeting and reasonable provision will be made to include the presentation in the agenda. The Designated Federal Officer is empowered to conduct the meeting in a fashion that will facilitate the orderly conduct of business. Each individual wishing to make public comment will be provided a maximum of 5 minutes to present their comments.

Minutes: The minutes of this meeting will be available for public review and copying at the Freedom of Information Public Reading Room, 1E-190, Forrestal Building, 1000 Independence Avenue, SW, Washington, DC 20585 between 9:00 a.m. and 4 p.m., Monday-Friday except Federal holidays. Minutes will also be available by writing to Tom Treger, Department of Energy Savannah River Operations Office, P.O. Box A, Aiken, SC 29802, or by calling (803)-725-1958.

Issued at Washington, DC on August 31, 2000.
Rachel Samuel,
Deputy Advisory Committee Management Officer.

[FR Doc. 00-22792 Filed 9-5-00; 8:45 am]

BILLING CODE 6450-01-P